NUCLEAR REGULATORY COMMISSION

Request to Amend a License to Import

Radioactive Waste

Pursuant to 10 CFR 110.70 (b) “Public Notice of Receipt of an Application,” please take notice that the Nuclear Regulatory Commission (NRC) has received the following request to amend an import license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 Fed. Reg 49139 (Aug. 28, 2007). Information about filing electronically is available on the NRC's public Web site at http://www.nrc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications

The information concerning this import license amendment application follows.

NRC Import License Amendment Application
[Description of material]
Name of applicant; date of application; date received; application no.; docket No. | Material type | Total quantity | End use | Country; from
Eastern Technologies, Inc.; December 28, 2012; January 2, 2013; IW016/02; 11005602 | Class A radioactive waste including various materials (e.g., polyvinyl alcohol (PVA) based protective clothing and related products, including zippers, hook and loop closure material, elastic and non-PVA thread, contaminated with low-levels of source, special nuclear, and/or byproduct materials resulting from nuclear power plant operations and maintenance). The radioactive contaminants will consist of mixed fission products and/or corrosion activation products including Cobalt-60, Cobalt-58, and Manganese-54 | Up to a maximum total of (5) curies over the duration of the license | Amend to: 1) Revise “End Use” to remove Impact Services as the U.S. third party waste processing company; and 2) extend the expiration date from December 31, 2012 to December 31, 2015. Laundering and decontamination of protective clothing and related products from the Laguna Verde Nuclear Power Plant located in Mexico. Following processing at Eastern Technologies, Inc. (ETI) facility, the secondary waste resulting will either be returned directly to Laguna Verde, or shipped to a licensed third party waste processor for further volume reduction processing and return to ETI for export back to Laguna Verde under NRC export license XW016/01 | Mexico.

For the Nuclear Regulatory Commission.
Dated this 24th day of January 2013 at Rockville, Maryland.
Janice E. Owens,
Acting Director, Office of International Programs.

[FR Doc. 2013-02346 Filed 2-1-13; 8:45 am]

BILLING CODE 7590-01-P